DEPARTMENT OF HOMELAND SECURITY

Federal Emergency Management Agency

[Docket ID FEMA-2023-0002; Internal Agency Docket No. FEMA-B-2348]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Nicholas A. Shufro,
Deputy Assistant Administrator for Risk Management, Federal Emergency Management Agency, Department of Homeland Security.

State and county | Location and case No. | Chief executive, officer of community | Community map repository | Online location of letter of map revision | Date of modification | Community No.
Colorado:
Boulder | Town of Superior (22-08-0512P) | The Honorable Mark Lacis, Mayor, Town of Superior, 124 East Coal Creek Drive, Superior, CO 80027 | Town Hall, 124 East Coal Creek Drive, Superior, CO 80027 | https://msc.fema.gov/portal/advanceSearch | Aug. 28, 2023 | 080203
Broomfield | City and County of Broomfield (22-08-0512P) | The Honorable Guyleen Castriotta, Mayor, City and County of Broomfield, 1 DesCombes Drive, Broomfield, CO 80020 | Engineering Department, 1 DesCombes Drive, Broomfield, CO 80020 | https://msc.fema.gov/portal/advanceSearch | Aug. 28, 2023 | 085073
Connecticut: Fairfield | Town of Greenwich (23-01-0011P) | Fred Camillo, First Selectman, Town of Greenwich Board of Selectmen, 101 Field Point Road, Greenwich, CT 06830 | Planning and Zoning Department, 101 Field Point Road, Greenwich, CT 06830 | https://msc.fema.gov/portal/advanceSearch | Aug. 11, 2023 | 090008
Florida:
Alachua | City of Gainesville (22-04-5738P) | The Honorable Harvey Ward, Mayor, City of Gainesville, 200 East University Avenue, Gainesville, FL 32601 | Public Works Department, 405 Northwest 39th Avenue, Gainesville, FL 32609 | https://msc.fema.gov/portal/advanceSearch | Aug. 16, 2023 | 125107
Alachua | Unincorporated areas of Alachua County (22-04-5738P) | Michele L. Lieberman, Alachua County Manager, 12 Southeast 1st Street, Gainesville, FL 32601 | Alachua County Public Works Department, 5620 Northwest 120th Lane, Gainesville, FL 32653 | https://msc.fema.gov/portal/advanceSearch | Aug. 16, 2023 | 120001
Bay | Unincorporated areas of Bay County (22-04-5121P) | The Honorable Tommy Hamm, Chair, Bay County Board of Commissioners, 840 West 11th Street, Panama City, FL 32401 | Bay County Planning and Zoning Division, 840 West 11th Street, Panama City, FL 32401 | https://msc.fema.gov/portal/advanceSearch | Aug. 16, 2023 | 120004
Monroe | Unincorporated areas of Monroe County (23-04-1583P) | The Honorable Craig Cates, Mayor, Monroe County Board of Commissioners, 500 Whitehead Street, Suite 102, Key West, FL 33040 | Monroe County Building Department, 2798 Overseas Highway, Suite 300, Marathon, FL 33050 | https://msc.fema.gov/portal/advanceSearch | Aug. 28, 2023 | 125129
Monroe | Village of Islamorada (23-04-1953P) | The Honorable Joseph Buddy Pinder III, Mayor, Village of Islamorada, 86800 Overseas Highway, Islamorada, FL 33036 | Building Department, 86800 Overseas Highway, Islamorada, FL 33036 | https://msc.fema.gov/portal/advanceSearch | Sep. 5, 2023 | 120424
Orange | City of Orlando (22-04-5073P) | The Honorable Buddy Dyer, Mayor, City of Orlando, 400 South Orange Avenue, Orlando, FL 32801 | Public Works Department, Engineering Division, 400 South Orange Avenue, Orlando, FL 32801 | https://msc.fema.gov/portal/advanceSearch | Aug. 18, 2023 | 120186
Orange | Unincorporated areas of Orange County (22-04-5073P) | The Honorable Jerry L. Demings, Mayor, Orange County, 201 South Rosalind Avenue, 5th Floor, Orlando, FL 32801 | Orange County Public Works Department, Stormwater Management Division, 4200 South John Young Parkway, Orlando, FL 32839 | https://msc.fema.gov/portal/advanceSearch | Aug. 18, 2023 | 120179
Sarasota | City of Sarasota (22-04-4970P) | The Honorable Kyle Battie, Mayor, City of Sarasota, 1565 1st Street, Room 101, Sarasota, FL 34236 | Development Services Department, 1565 1st Street, Sarasota, FL 34236 | https://msc.fema.gov/portal/advanceSearch | Aug. 16, 2023 | 125150
Volusia | City of Edgewater (23-04-1432P) | The Honorable Diezel DePew, Mayor, City of Edgewater, P.O. Box 100, Edgewater, FL 32132 | Stormwater Department, 409 Mango Tree Drive, Edgewater, FL 32132 | https://msc.fema.gov/portal/advanceSearch | Aug. 4, 2023 | 120308
Georgia: Fulton | City of Hapeville (22-04-5158P) | The Honorable Alan Hallman, Mayor, City of Hapeville, 3468 North Fulton Avenue, Hapeville, GA 30354 | Public Services Department, 3474 North Fulton Avenue, Hapeville, GA 30354 | https://msc.fema.gov/portal/advanceSearch | Aug. 24, 2023 | 130502
Mississippi: Hancock | City of Bay St. Louis (23-04-1766P) | The Honorable Michael Favre, Mayor, City of Bay St. Louis, 688 Highway 90, Bay Saint Louis, MS 39520 | Chiniche Engineering and Surveying, 407 Highway 90, Bay Saint Louis, MS 39520 | https://msc.fema.gov/portal/advanceSearch | Aug. 25, 2023 | 285251
North Carolina: Durham | Unincorporated areas of Durham County (22-04-5172P) | The Honorable Brenda Howerton, Chair, Durham County, Board of Commissioners, 101 City Hall Plaza, Durham, NC 27701 | Durham City-County Planning Department, 101 City Hall Plaza, Durham, NC 27701 | https://msc.fema.gov/portal/advanceSearch | Sep. 1, 2023 | 370085
Pennsylvania:
Blair | Borough of Williamsburg (23-03-0119P) | The Honorable Theodore Hyle, Mayor, Borough of Williamsburg, 305 East 2nd Street, Williamsburg, PA 16693 | Borough Hall, 305 East 2nd Street, Williamsburg, PA 16693 | https://msc.fema.gov/portal/advanceSearch | Aug. 8, 2023 | 420165
Blair | Township of Catharine (23-03-0119P) | The Honorable Heather Flaig, Supervisor, Township of Catharine, 1229 Recreation Drive, Williamsburg, PA 16693 | Township Hall, 1229 Recreation Drive, Williamsburg, PA 16693 | https://msc.fema.gov/portal/advanceSearch | Aug. 8, 2023 | 420962
Blair | Township of Woodbury (23-03-0119P) | The Honorable Joseph Lansberry, Chair, Township of Woodbury Board of Supervisors, 6385 Clover Creek Road, Williamsburg, PA 16693 | Township Hall, 6385 Clover Creek Road, Williamsburg, PA 16693 | https://msc.fema.gov/portal/advanceSearch | Aug. 8, 2023 | 420963
Cumberland | Township of Upper Allen (22-03-0959P) | The Honorable Kenneth M. Martin, President, Township of Upper Allen Board of Commissioners, 100 Gettysburg Pike, Mechanicsburg, PA 17055 | Township Hall, 100 Gettysburg Pike, Mechanicsburg, PA 17055 | https://msc.fema.gov/portal/advanceSearch | Aug. 18, 2023 | 420372
Delaware | Township of Darby (23-03-0224P) | The Honorable John Lacey, President, Township of Darby Board of Commissioners, 21 Bartram Avenue, Glenolden, PA 19036 | Township Hall, 21 Bartram Avenue, Glenolden, PA 19036 | https://msc.fema.gov/portal/advanceSearch | Aug. 14, 2023 | 421603
Philadelphia | City of Philadelphia (23-03-0224P) | The Honorable James Kenney, Mayor, City of Philadelphia, 1 South Penn Square, Suite 215, Philadelphia, PA 19102 | Department of Licenses and Inspections, 1401 John F. Kennedy Boulevard, 11th Floor, Philadelphia, PA 19102 | https://msc.fema.gov/portal/advanceSearch | Aug. 14, 2023 | 420757
Tennessee:
Wilson | City of Mt. Juliet (23-04-1901P) | The Honorable James Maness, Mayor, City of Mt. Juliet, 2425 North Mt. Juliet Road, Mt. Juliet, TN 37122 | Public Works and Engineering Department, 71 East Hill Street, Mt. Juliet, TN 37122 | https://msc.fema.gov/portal/advanceSearch | Aug. 3, 2023 | 470290
Wilson | Unincorporated areas of Wilson County (23-04-1901P) | The Honorable Randall Hutto, Mayor, Wilson County, 228 East Main Street, Lebanon, TN 37087 | Wilson County Planning Department, 228 East Main Street, Lebanon, TN 37087 | https://msc.fema.gov/portal/advanceSearch | Aug. 3, 2023 | 470207
Texas:
Bexar | City of San Antonio (22-06-1878P) | The Honorable Ron Nirenberg, Mayor, City of San Antonio, P.O. Box 839966, San Antonio, TX 78283 | Transportation and Capital Improvements Department, Storm Water Division, 1901 South Alamo Street, 2nd Floor, San Antonio, TX 78204 | https://msc.fema.gov/portal/advanceSearch | Aug. 14, 2023 | 480045
Dallas | City of Dallas (23-06-0244P) | The Honorable Eric Johnson, Mayor, City of Dallas, 1500 Marilla Street, Room 5EN, Dallas, TX 75201 | Oak Cliff Municipal Center, 320 East Jefferson Boulevard, Room 312, Dallas, TX 75203 | https://msc.fema.gov/portal/advanceSearch | Aug. 7, 2023 | 480171
Dallas | City of Garland (22-06-2058P) | The Honorable Scott LeMay, Mayor, City of Garland, 200 North 5th Street, Garland, TX 75040 | City Hall, 200 North 5th Street, Garland, TX 75040 | https://msc.fema.gov/portal/advanceSearch | Aug. 14, 2023 | 485471
Dallas | City of Sachse (22-06-2058P) | The Honorable Jeff Bickerstaff, Mayor, City of Sachse, 3815 Sachse Road, Sachse, TX 75048 | Engineering Department, 3815 Sachse Road, Sachse, TX 75048 | https://msc.fema.gov/portal/advanceSearch | Aug. 14, 2023 | 480186
Denton | City of Fort Worth (22-06-2050P) | The Honorable Mattie Parker, Mayor, City of Fort Worth, 200 Texas Street, Fort Worth, TX 76102 | Transportation and Public Works Department, Engineering Vault, 200 Texas Street, Fort Worth, TX 76102 | https://msc.fema.gov/portal/advanceSearch | Aug. 21, 2023 | 480596
Denton | City of Justin (22-06-2978P) | The Honorable Elizabeth Woodall, Mayor, City of Justin, P.O. Box 129, Justin, TX 76247 | Department of Development Services, 415 North College Avenue, Justin, TX 76247 | https://msc.fema.gov/portal/advanceSearch | Sep. 1, 2023 | 480778
Denton | Unincorporated areas of Denton County (22-06-2978P) | The Honorable Andy Eads, Denton County Judge, 1 Courthouse Drive, Suite 3100, Denton, TX 76208 | Denton County Development Services Department, 3900 Morse Street, Denton, TX 76208 | https://msc.fema.gov/portal/advanceSearch | Sep. 1, 2023 | 480774
El Paso | City of El Paso (22-06-2670P) | The Honorable Oscar Leeser, Mayor, City of El Paso, 300 North Campbell Street, El Paso, TX 79901 | Development Department, 801 Texas Avenue, El Paso, TX 79901 | https://msc.fema.gov/portal/advanceSearch | Sep. 1, 2023 | 480214
Texas: El Paso | Unincorporated areas of El Paso County (22-06-2670P) | The Honorable Ricardo A. Samaniego, El Paso County Judge, 500 East San Antonio Avenue, Suite 301, El Paso, TX 79901 | El Paso County Public Works Department, 800 East Overland Avenue, Suite 200, El Paso, TX 79901 | https://msc.fema.gov/portal/advanceSearch | Sep. 1, 2023 | 480212
Virginia:
Loudoun | City of Leesburg (22-03-0973P) | The Honorable Kelly Burk, Mayor, Town of Leesburg, 25 West Market Street, Leesburg, VA 20176 | Town Hall, 25 West Market Street, Leesburg, VA 20176 | https://msc.fema.gov/portal/advanceSearch | Aug. 28, 2023 | 510091
Washington | City of Bristol (22-03-1191P) | Randy Eads, City of Bristol Manager, 300 Lee Street, Bristol, VA 24201 | Community Development and Planning Department, 300 Lee Street, Bristol, VA 24201 | https://msc.fema.gov/portal/advanceSearch | Aug. 10, 2023 | 510022
Washington | Unincorporated areas of Washington County (22-03-1191P) | Saul A. Hernandez, Chair, Washington County Board of Supervisors, 5411 Dishner Valley Road, Bristol, VA 24202 | Washington County Department of Zoning Administration, 1 Government Center Place, Suite A, Abingdon, VA 24210 | https://msc.fema.gov/portal/advanceSearch | Aug. 10, 2023 | 510168

[FR Doc. 2023-12888 Filed 6-15-23; 8:45 am]

BILLING CODE 9110-12-P